DEPARTMENT OF AGRICULTURE

Food and Nutrition Service

Agency Information Collection Activities: Proposed Collection; Comment Request—Supplemental Nutrition Assistance Program, Form FNS-46, Issuance Reconciliation

AGENCY: Food and Nutrition Service, USDA.

ACTION: Notice and request for comments.

SUMMARY: In accordance with the Paperwork Reduction Act of 1995, this notice invites the general public and other public agencies to comment on proposed information collection. This collection is an extension, without change, of a currently approved collection for Form FNS-46, Issuance Reconciliation Report, which concerns benefit issuance operations in the Supplemental Nutrition Assistance Program.

DATES: Written comments must be received on or before December 7, 2010 to be assured of consideration.

ADDRESSES: Comments are invited on: (a) Whether the proposed collection of information is necessary for the proper performance of the functions of the Agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to: Andrea Gold, Chief, Retailer Management and Issuance Branch, Benefit Redemption Division, Food and Nutrition Service, U.S. Department of Agriculture, 3101 Park Center Drive, Room 403, Alexandria, VA 22302; FAX number (703) 305-1863; or via e-mail to: BRDHQ-WEB@fns.usda.gov. Comments will also be accepted through the Federal eRulemaking Portal. Go to http://www.regulations.gov. and follow the online instructions for submitting comments electronically.

All responses to this notice will be summarized and included in the request for Office of Management and Budget approval. All comments will also become a matter of public record.

FOR FURTHER INFORMATION CONTACT: Andrea Gold, Chief, Retailer Management and Issuance Branch at (703) 305-2456.

SUPPLEMENTARY INFORMATION: Title: Supplemental Nutrition Assistance Program: Form FNS-46, Issuance Reconciliation.

Form Number: FNS-46.

OMB Number: 0584-0080.

Expiration Date: February 28, 2011.

Type of Request: Extension of a currently approved collection.

Abstract: Section 7(d) of the Food and Nutrition Act of 2008, as amended, (the Act) (7 U.S.C. 2016(d)), requires State agencies to report on their benefits issuance operations not less than monthly. Section 11(a) of the Act (7 U.S.C. 2020(a)) requires State agencies to assume responsibility for the issuance, control, and accountability of benefits. Regulations at 7 CFR 274.4 (a) and 274.4(b)(2) require State agencies to account for all issuance through the reconciliations process and to submit a report on this process using Form FNS-46, Issuance Reconciliation Report. These reports must be submitted to the Food and Nutrition Service (FNS) monthly and must reach FNS no later than 90 days following the end of each report month. The FNS-46 report reflects the total issuance, returns, and unauthorized issuance amounts resulting in the net Federal obligation.

With all States implementing EBT systems, the State have generally reduced the time they spend on reconciling SNAP benefit issuance and completing the FNS-46. Therefore, there is a corresponding reduction in the burden of collecting the FNS-46 data.

Affected Public: State, Local and Tribal Government.

Estimated Number of Respondents: 54.

Estimated Number of Responses per Respondent: 12.

Estimated Total Annual Responses: 648.

Estimated Time per Response: 4.0 hours.

Estimated Total Annual Burden: 2592 hours annually.

Dated: October 1, 2010.
Julia Paradis,
Administrator, Food and Nutrition Service.

[FR Doc. 2010-25410 Filed 10-7-10; 8:45 am]

BILLING CODE 3410-30-P